NATIONAL AERONAUTICS AND SPACE ADMINISTRATION

[Notice 03-107]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: James McGroary, Patent Counsel, Marshall Space Flight Center, Code LS01, Huntsville, AL 35812; telephone (256) 544-0013; fax (256) 544-0258.

NASA Case No. MFS-31647-1: Auto-Adjustable Tool For Self-Retracting And Conventional Friction Stir Welding;

NASA Case No. MFS-31705-1: Laser Range With Bearing Measurement Output;

NASA Case No. MFS-31887-1: Cylindrical Asymmetrical Capacitor Devices For Space Applications.

Dated: September 8, 2003.
Robert M. Stephens,
Deputy General Counsel.

[FR Doc. 03-23494 Filed 9-12-03; 8:45 am]

BILLING CODE 7510-01-P